DEPARTMENT OF ENERGY

Federal Energy Regulatory Commission

Notice of Amendment To License and Soliciting Comments, Motions to Intervene, and Protests

July 21, 2000.

Take notice that the following application has been filed with the Commission and is available for public inspection:

a. Application Type: Amendment to License.

b. Project No: 2100-109.

c. Date Filed: February 16, 2000.

d. Applicant: California Department of Water Resources.

e. Name of Project: Feather River Hydroelectric Project.

f. Location: On the Feather River in Butte County, California. The project utilizes federal lands including the Plumas National Forest, Lassen National Forest, and the tribal lands of the Enterprise Band of the Maidu Indians.

g. Filed Pursuant to: Federal Power Act, 16 U.S.C. 791(a)-825(r).

h. Applicant Contact: Raymond D. Hart, Deputy Director, California Department of Water Resources, 1416 Ninth Street, P.O. Box 942836, Sacramento, CA 94236-0001, (916) 653-5791.

i. FERC Contact: Any questions on this notice should be addressed to Timothy Welch at (202) 219-2666, or e-mail address: Timothy.Welch@ferc.fed.us.

j. Deadline for filing comments and or motions: September 1, 2000.

All documents (original and eight copies) should be filed with: David P. Boergers, Secretary, Federal Energy Regulatory Commission, 888 First Street, N.E., Washington, DC 20426.

Please include the project number (2100-109) on any comments or motions filed.

k. Description of Proposal: Since 1993, at Lake Oroville, the applicant has been implementing fish habitat enhancement projects, gathering biological/fishery data, and assisting the California Department of Fish and Game with fish rearing, stocking, and development management protocols as required by Commission order issued September 22, 1994. By Commission order issued May 10, 1999, the applicant is currently required to stock no more than 250,000 yearling chinook salmon as an interim and annual stocking rate. Based on its studies, the applicant proposes a final annual stocking rate of 170,000 yearling chinook salmon for the remainder of the license term.

l. Locations of the Application: A copy of the application is available for inspection and reproduction at the Commission's Public Reference Room, located at 888 First Street, NE, Room 2A, Washington, DC. 20426, or by calling (202) 208-1371. This filing may be viewed on http:\\www.fed.us/online/rims.htm (call (202) 208-2222 for assistance). A copy is also available for inspection and reproduction at the address in item h above.

m. Individuals desiring to be included in the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filing's must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC., 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-18879 Filed 7-25-00; 8:45 am]

BILLING CODE 6717-01-M